DEPARTMENT OF JUSTICE

Antitrust Division

Notice Pursuant to the National Cooperative Research and Production Act of 1993—Cable Television Laboratories, Inc.

Notice is hereby given that, on May 17, 2024, pursuant to section 6(a) of the National Cooperative Research and Production Act of 1993, 15 U.S.C. 4301 et seq. (“the Act”), Cable Television Laboratories, Inc. (“CableLabs”) filed written notifications simultaneously with the Attorney General and the Federal Trade Commission disclosing changes in its membership. The notifications were filed for the purpose of extending the Act's provisions limiting the recovery of antitrust plaintiffs to actual damages under specified circumstances. Specifically, E. Ritter Communications Holdings, LLC, Wilmington, DE, has been added as a party to this venture.

Also, Guangzhou Digital Media Group Co. Limited, Guangzhou, PEOPLE'S REPUBLIC OF CHINA; Guangdong Cable Corporation Limited, Guangzhou, PEOPLE'S REPUBLIC OF CHINA; and Videotron Ltée, Montreal, Quebec, CANADA, have been terminated as parties to this venture.

No other changes have been made in either the membership or planned activity of the venture. Membership in this venture remains open, and CableLabs intends to file additional written notifications disclosing all changes in membership.

On August 8, 1988, CableLabs filed its original notification pursuant to section 6(a) of the Act. The Department of Justice published a notice in the Federal Register pursuant to section 6(b) of the Act on September 7, 1988 (53 FR 34593).

The last notification was filed with the Department on March 31, 2022. A notice was published in the Federal Register pursuant to section 6(b) of the Act on May 13, 2022 (87 FR 29385).

Suzanne Morris,
Deputy Director Civil Enforcement Operations, Antitrust Division.

[FR Doc. 2024-13656 Filed 6-20-24; 8:45 am]

BILLING CODE P